DEPARTMENT OF TRANSPORTATION

Federal Aviation Administration

Fifth Meeting: RTCA Special Committee 228—Minimum Operational Performance Standards for Unmanned Aircraft Systems

AGENCY: Federal Aviation Administration (FAA), U.S. Department of Transportation (DOT).

ACTION: Notice of RTCA Special Committee 228—Minimum Operational Performance Standards for Unmanned Aircraft Systems.

SUMMARY: The FAA is issuing this notice to advise the public of the fifth meeting of RTCA Special Committee 228—Minimum Operational Performance Standards for Unmanned Aircraft Systems.

DATES: The meeting will be held May 22, 2014 from 1:00 p.m. to 5:00 p.m.

ADDRESSES: The meeting will be held at RTCA, 1150 18th Street NW., Suite 910, Washington, DC, 20036.

FOR FURTHER INFORMATION CONTACT: The RTCA Secretariat, 1150 18th Street NW., Suite 910, Washington, DC 20036, or by telephone at (202) 330-0662 or (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 228—Minimum Operational Performance Standards for Unmanned Aircraft Systems. The agenda will include the following:

Specific Working Group Sessions Before Plenary

May 19-21

All Day, Working Group 1—DAA, MacIntosh-NBAA Room & Colson Board Room.

All Day, Working Group 2—C2, ARINC & Hilton-A4A Rooms

May 22

Working Group 1—DAA, MacIntosh-NBAA Room & Colson Board Room.

Working Group 2—CNPC, ARINC & Hilton-A4A Rooms

May 22 (Starting at 1:00 p.m.)

• Welcome/Introductions/Administrative Remarks/SC-228 Participation Guidelines

• Agenda Overview

• Review/Approval of Minutes from Plenary #4 (RTCA Paper No. 046-14/SC228-013) held Thursday, February 28, 2014 at RTCA

• Review of RTCA SC-228 Steering Committee Activity.

• Briefings from UAS Test Sites

• Status of coordination efforts with SC-147

• Report from WG-1 for Detect and Avoid progress on the DAA MOPS

• Report from WG-2 for Command and Control progress on the CNPC MOPS

• Other Business

• Date, Place and Time of Next Meeting(s)

○ (Plenary #6—28 August 2014 @RTCA)

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 2, 2014.
Paige L. Williams,
Management Analyst, Business Operations Group, ANG-A12, Federal Aviation Administration.

[FR Doc. 2014-07906 Filed 4-8-14; 8:45 am]

BILLING CODE 4910-13-P